DEPARTMENT OF THE INTERIOR

Bureau of Indian Affairs

25 CFR Part 140

[178A2100DD/AAKC001030/A0A501010.999900 253G]

RIN 1076-AF30

Traders With Indians

AGENCY: Bureau of Indian Affairs, Interior.

ACTION: Advance notice of proposed rulemaking; Tribal consultation.

SUMMARY: This document announces details for Tribal consultation sessions to discuss the advance notice of proposed rulemaking on Licensed Indian Traders, which the Department of the Interior (Department) published on December 9, 2016. The Department is interested in whether to address the Indian trader regulations and, if so, how.

DATES: Please see the SUPPLEMENTARY INFORMATION section of this document for dates of the Tribal consultation sessions.

ADDRESSES: Please see the SUPPLEMENTARY INFORMATION section of this document for venue information on Tribal consultation sessions.

FOR FURTHER INFORMATION CONTACT: Elizabeth Appel, Director, Office of Regulatory Affairs and Collaborative Action, Office of the Assistant Secretary—Indian Affairs; telephone (202) 273-4680, elizabeth.appel@bia.gov.

SUPPLEMENTARY INFORMATION: The Department of the Interior will be hosting consultation sessions with Indian Tribes on the ANPRM regarding whether and how to address the Indian Trader regulations at 25 CFR part 140. We will accept both oral and written communications at these consultation sessions. The following table lists dates and locations for the consultations.

Date | Time (local time zone) | Location
Thursday, February 23, 2017 | 8:30 a.m.-12 p.m | Swinomish Casino & Lodge, 12885 Casino Drive, Anacortes, WA 98221.
Tuesday, February 28, 2017 | 8:30 a.m.-12 p.m | Miccosukie Resort & Gaming, 500 SW., 177th Avenue, Miami, FL 33194.
Thursday, March 2, 2017 | 8:30 a.m.-12 p.m | Harrah's Resort Southern California, 777 Harrah's Rincon Way, Valley Center, CA 92802.
Tuesday, March 7, 2017 | 8:30 a.m.-12 p.m | The Northern Hotel, 19 N. Broadway, Billings, MT 59101.
Thursday, March 9, 2017 | 8:30 a.m.-12 p.m | Holiday Inn—Rushmore Plaza, 505 N. 5th Street, Rapid City, SD.
Monday, March 13, 2017 | Please see the agenda at the RES 2017 conference hosted by the National Center for American Indian Enterprise Development | Mirage Resort & Casino, 3400 S. Las Vegas Blvd., Las Vegas, NV 89109.
Tuesday, March 14, 2017 | 8:30 a.m.-12 p.m | Mystic Lake Casino Hotel, 2400 Mystic Lake Blvd., Prior Lake, MN 55372.
Thursday, March 16, 2017 | 8:30 a.m.-12 p.m | Seneca Allegany Resort & Casino, 777 Seneca Allegany Blvd., Salamanca, NY 14779.

Please refer to the publication on December 9 (81 FR 89015) for background and information the Department is seeking through this consultation.

Dated: January 31, 2017.
Michael S. Black,
Acting Assistant Secretary—Indian Affairs.

[FR Doc. 2017-02573 Filed 2-7-17; 8:45 am]

BILLING CODE 4337-15-P